DEPARTMENT OF JUSTICE

Drug Enforcement Administration

21 CFR Parts 1300 and 1301

[Docket No. DEA-437]

RIN 1117-AB47

Suspicious Orders of Controlled Substances

AGENCY: Drug Enforcement Administration, Department of Justice.

ACTION: Request for comment; reopening of comment period.

SUMMARY: On November 2, 2020, the Drug Enforcement Administration published in the Federal Register a notice of proposed rulemaking (NPRM) soliciting comments on the proposed revisions relating to the suspicious orders of controlled substances. The NPRM provided for a comment period ending on January 4, 2021, and the opportunity to comment ended accordingly. DEA has determined that a reopening of the comment period from February 25, 2021 until March 29, 2021 is appropriate as registrants who would be primarily affected by this rule are uniquely preoccupied with mitigating the global pandemic caused by COVID-19. Accordingly, this reopening will permit additional time to prepare and submit comments.

DATES: The comment period for the proposed revisions to the Notice of Proposed Rulemaking published on November 2, 2020 (85 FR 69282), is reopened from February 25, 2021, until March 29, 2021.

ADDRESSES: You may submit comments by any of the methods identified in the proposed rule.

FOR FURTHER INFORMATION CONTACT: Scott A. Brinks, Diversion Control Division, Drug Enforcement Administration; Mailing Address: 8701 Morrissette Drive, Springfield, VA 22152, Telephone: (571) 362-3261.

SUPPLEMENTARY INFORMATION: On November 2, 2020, the Drug Enforcement Administration (DEA) published a notice of proposed rulemaking in the Federal Register proposing to revise its regulations relating to suspicious orders of controlled substances. Upon receipt of an order received under suspicious circumstances, registrants authorized to distribute controlled substances would select one of two options to resolve the issue. Additionally, these registrants would be required to submit all suspicious order reports to a DEA centralized database, and keep records pertaining to suspicious orders and Orders Received Under Suspicious Circumstances (ORUSC).

DEA received requests from some of the commenters requesting an extension of the comment period due to the COVID-19 global pandemic. One such commenter stated, among other things, that the ability of its members to analyze and respond to this proposed rulemaking is adversely affected by the large and imminent demand for COVID-19 vaccines. DEA understands that the distribution of the COVID-19 vaccine is vital to the continued efforts to combat this global pandemic. Accordingly, DEA has decided to reopen the comment period for an additional 30 days, and is reopening the comment period for the proposed rulemaking from February 25, 2021, until March 29, 2021.

D. Christopher Evans,
Acting Administrator.

[FR Doc. 2021-03361 Filed 2-24-21; 8:45 am]

BILLING CODE 4410-09-P